DEPARTMENT OF HEALTH AND HUMAN SERVICES

Center for Indigenous Innovation and Health Equity Tribal Advisory Committee; Solicitation of Nominations for Delegates

AGENCY: Office of Minority Health, Office of the Secretary, Department of Health and Human Services.

ACTION: Notice; correcting amendment.

SUMMARY: On January 8, 2025, we published a Federal Register Notice requesting nomination letters for the CIIHE TAC delegates. This correcting amendment corrects two errors: the submission deadline and the notification timeframe for nominee selection.

DATES: Tribal leaders are encouraged to submit their nomination letters for CIIHE TAC delegates by February 18, 2025, at the address listed below. The U.S. Department of Health and Human Services (HHS) Office of Minority Health (OMH) will continue to receive nominations until all CIIHE TAC primary and alternate delegate positions are filled.

ADDRESSES: All nominations should be emailed to minorityhealth@hhs.gov. Please use the subject line “CIIHE TAC Nomination.”

FOR FURTHER INFORMATION CONTACT: For information and guidance about the nomination process for CIIHE TAC delegates, please contact Rochelle Rollins, Senior Policy Advisor, at Rochelle.Rollins@hhs.gov. Sample CIIHE TAC nomination letters are available on the OMH website: https://minorityhealth.hhs.gov/ciihe-tribal-advisory-committee-tac.

SUPPLEMENTARY INFORMATION: Authorized under Section 1707 of the Public Health Service Act, 42 U.S.C. 300u-6, as amended, the mission of OMH is to improve the health of racial and ethnic minority and American Indian and Alaska Native (AI/AN) populations through the development of health policies and programs that help eliminate health disparities. OMH awards and other activities are intended to support the identification of effective policies, programs, and practices that improve health outcomes and to promote the sustainability and dissemination of these approaches.

Summary of Errors

Tribal leaders are encouraged to submit their nomination letters for CIIHE TAC delegates by February 18, 2025. Nominees will be notified of the delegate selection status in March 2025.

Tarsha Cavanaugh,
Capt, Principal Deputy Director, Office of Minority Health.

[FR Doc. 2025-00701 Filed 1-14-25; 8:45 am]

BILLING CODE 4150-29-P